DEPARTMENT OF LABOR

Office of the Secretary

Agency Information Collection Activities; Submission for OMB Review; Comment Request; Veterans' Employment and Training Service Competitive Grant Programs Reporting

ACTION: Notice of availability; request for comments.

SUMMARY: The Department of Labor (DOL) is submitting this Veterans' Employment and Training Service (VETS)-sponsored information collection request (ICR) to the Office of Management and Budget (OMB) for review and reinstatement in accordance with the Paperwork Reduction Act of 1995 (PRA). Public comments on the ICR are invited.

DATES: The OMB will consider all written comments that agency receives on or before May 11, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Frederick Licari by telephone at 202-693-8073, TTY 202-693-8064, (these are not toll-free numbers) or by email at DOL_PRA_PUBLIC@dol.gov.

SUPPLEMENTARY INFORMATION: The Department of Labor's VETS administers funds for the Homeless Veterans' Reintegration Program grants to state, local, and tribal governments; businesses and other for-profit and not-for-profit organizations on an annual program year basis. These competitive grants are codified under 38 U.S.C. 2021, 2021A, and 2023. VETS provides funds to competitively-awarded grantees through annual Funding Opportunity Announcements and option year funding. The total number of grantees varies based on the amount of available funds, awarded in grants up to $500,000 each. The Assistant Secretary for Veterans' Employment and Training monitors and supervises the distribution and use of those funds as required by 38 U.S.C. 2021 (b). Additionally, and in accordance with 38 U.S.C. 2021 (d), the Secretary reviews performance and provides a biennial report to Congress on the program, including an evaluation of the services furnished to veterans and an analysis of the information we have collected. VETS intends to request approval for this information collection that streamlines the annual funding request process for grantees, reports the use of grantee funds in sufficient detail to allow interim adjustments that ensure all appropriated funding is expended properly, and provides data needed for VETS' biennial report to Congress. The forms and reports collect required programmatic and financial data from grantees. The continued use of standardized formats for collecting this information helps to ensure that requested data is provided in a uniform way, reporting burdens are minimized, the impact of collection requirements on respondents are properly assessed, collection instruments are clearly understood by respondents, and the information is easily consolidated for posting in accordance with statutory requirements. For additional substantive information about this ICR, see the related notice published in the Federal Register on September 19, 2019 (84 FR 49344).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks reinstatement and PRA authorization for this information collection for three (3) years. OMB authorization for an ICR cannot be for more than three (3) years without renewal. The DOL notes that information collection requirements submitted to the OMB for existing ICRs receive a month-to-month extension while they undergo review.

Agency: DOL-VETS.

Title of Collection: Veterans' Employment and Training Service Competitive Grant Programs Reporting.

OMB Control Number: 1293-0014.

Affected Public: State, Local, and Tribal Governments; Private Sector: Businesses or other for-profits and not-for-profits institutions.

Total Estimated Number of Respondents: 1,078.

Total Estimated Number of Responses: 2,662.

Total Estimated Annual Time Burden: 11,004 hours.

Total Estimated Annual Other Costs Burden: $0.

(Authority: 44 U.S.C. 3507(a)(1)(D))

Dated: April 3, 2020.
Frederick Licari,
Departmental Clearance Officer.

[FR Doc. 2020-07468 Filed 4-8-20; 8:45 am]

BILLING CODE 4510-79-P